DEPARTMENT OF COMMERCE

National Oceanic and Atmospheric Administration

RIN: 0648-XY01

New England Fishery Management Council; Public Meeting

AGENCY: National Marine Fisheries Service (NMFS), National Oceanic and Atmospheric Administration (NOAA), Commerce.

ACTION: Notice; public meeting.

SUMMARY: The New England Fishery Management Council's (Council) Herring Advisory Panel (AP) will meet to consider actions affecting New England fisheries in the exclusive economic zone (EEZ).

DATES: The meeting will be held on Wednesday, August 25, 2010, at 9:30 a.m.

ADDRESSES: The meeting will be held at the Sheraton Harborside Hotel, 250 Market Street, Portsmouth, NH 03801; telephone: (603) 431-2300; fax: (603) 433-5649.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the panel's agenda are as follows:

1. Review and provide AP recommendations regarding catch monitoring alternatives under development in Amendment 5 to the Atlantic Herring Fishery Management Plan (FMP); AP discussion may address:

•quota monitoring and reporting;

•measures to confirm the accuracy of self-reporting;

•catch monitoring and control plans (CMCPs);

•maximized retention;

•measures to maximize sampling and address net slippage;

•observer coverage and portside sampling; and

•measures to require electronic monitoring.

2. Provide AP recommendations regarding measures to address river herring bycatch proposed in Amendment 5;

3. Other business may also be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: August 4, 2010.
Tracey L. Thompson,
Acting Director, Office of Sustainable Fisheries, National Marine Fisheries Service.

[FR Doc. 2010-19541 Filed 8-6-10; 8:45 am]

BILLING CODE 3510-22-S